DEPARTMENT OF THE INTERIOR

Bureau of Land Management

(AZ030-1610-HN-00; AZA-31069)

Notice of Availability of Cane Springs Land Exchange Environmental Assessment/Plan Amendment and; Notice of Realty Action.

AGENCY: Bureau of Land Management, Department of the Interior.

ACTION: Notice of availability and notice of realty action.

SUMMARY: Pursuant to section 206 of the Federal Land Policy and Management Act of 1976 (43 U.S.C. 1716), as amended and section 102(2)(C) of the National Environmental Policy Act of 1969 and the Federal Land Policy and Management Act of 1976, the Bureau of Land Management, Kingman Field Office, Arizona, has prepared an Environmental Assessment (EA)/Plan amendment to analyze the effect of a proposed land exchange and a proposed plan amendment to the Kingman Resource Management Plan. The EA addresses the effects of a proposal to exchange approximately 17,500 acres of public land for approximately 18,000 acres of private land. The proposed land exchange is entirely within Mohave County, Arizona. The amendment is needed because the Proponent selected public lands that were not identified for disposal through exchange in the Kingman Resource Management Plan. It is proposed to amend the Kingman Resource Management Plan to change 478.11 acres located in Lots 1, 2, NE1/4, E1/2NW1/4, SE1/4 of section 31 in Township 22 North, Range 18 West from available for disposal through Recreation and Public Purpose Uses to available for disposal through exchange. There would be 158.25 acres in Lots 3,4, E1/2SW1/4 of section 31 of Township 22 North, Range 18 West for Recreation and Public Purpose Uses.

The Realty Action is in accordance with sections 1 and 7 of the Taylor Grazing Act, 43 U.S.C. 315 and 315f, the selected public lands described in the EA are hereby classified for disposal by exchange.

DATES: Written protests on the proposed plan amendment must be postmarked no later than September 27, 2000.

Plan Protest Procedures:

The BLM's planning process includes an opportunity for administrative review via a plan protest to the BLM Director. This plan protest procedure is only applicable to the proposed plan amendment.

The protest must specifically address the proposal to change 478.11 acres of land classified as available for disposal through Recreation and Public Purpose uses to a classification of available for disposal through exchange. Currently, no decision has been made on the overall exchange, so the exchange itself cannot be protested. Only the proposal to amend the Kingman RMP can be protested. To protest the proposed plan amendment, file a letter of protest with: Director, Bureau of Land Management, Attention: Ms. Brenda Williams, Protests Coordinator, WO-210/LS-1075, Department of the Interior, Washington, DC 20240.

The overnight mail address is: Director, Bureau of Land Management Attention: Ms. Brenda Williams, Protests Coordinator (WO-210) 1620 L Street NW, Room 1075, Washington, DC 20036.

To expedite consideration, in addition to the original sent by mail or overnight mail, a copy of the protest may be sent by fax to (202) 452-5112 or e-mail to bhudgens@wo.blm.gov.

WO-210 will immediately acknowledge receipt of the protest and fax/e-mail a copy to the appropriate BLM State Director and the assigned field support staff. Protests filed late or filed with the BLM State Director or district, field or area manager shall be rejected by the BLM Washington Office (WO-210).

At minimum, the letter of protest must contain the following information.

1. The name, mailing address, telephone number and interest of the person filing the protest.

2. A statement of which parcel or parcels (by township, range and section) are being protested.

3. A copy of each document addressing the parcels proposed to be categorized as disposal lands, such as letters sent during the plan amendment process that addresses parcels within the proposed plan amendment.

4. A statement of reasons why the BLM State Director's proposed decision to place the lands in the disposal category is believed to be incorrect. All relevant facts need to be included in the statement of reasons. These facts, reasons and documentation are very important to understand the protest rather than merely expressing disagreement with the proposed decision.

ADDRESSES: Copies of the document are available at the following locations: Bureau of Land Management, Kingman Field Office, 2475 Beverly Ave., Kingman, Arizona, 86401-3629 and Bureau of Land Management, Arizona State Office, 222 North Central Avenue, Phoenix, Arizona 85004-2203.

FOR FURTHER INFORMATION CALL: Don McClure, phone: (520) 692-4400.

SUPPLEMENTARY INFORMATION: The land exchange includes both public and non-public land in Mohave County in northwestern Arizona, encompassing approximately 35,500 acres. Issues that have been addressed are ranching, biological resources, recreation/access, soil erosion, cultural resources, realty, riparian areas, mineral resources, and Proposed modifications to the Kingman Resource Management Plan have been integrated with the proposed Land Exchange, and the impacts presented in a single EA-level analysis.

John R. Christensen,
Field Manager, Kingman Field Office.

[FR Doc. 00-21865 Filed 8-25-00; 8:45 am]

BILLING CODE 4310-22-P